GENERAL SERVICES ADMINISTRATION

[OMB Control No. 3090-0300; Docket No. 2014-0001; Sequence 5]

Information Collection; General Services Administration Acquisition Regulation; Implementation of Information Technology Security Provision

AGENCY: General Services Administration (GSA), General Services Administration Acquisition Regulation.

ACTION: Notice of request for comments regarding an extension to an existing OMB information collection.

SUMMARY: Under the provisions of the Paperwork Reduction Act of 1995 (44 U.S.C. Chapter 35), the Regulatory Secretariat Division will be submitting to the Office of Management and Budget (OMB) a request to review and approve a renewal of the currently approved information collection requirement regarding Implementation of Information Technology Security Provision.

DATES: Submit comments on or before November 12, 2014.

ADDRESSES: Submit comments identified by Information Collection 3090-0300, Implementation of Information Technology Security Provision, by any of the following methods:

• Regulations.gov: http://www.regulations.gov. Submit comments via the Federal eRulemaking portal by searching the OMB control number 3090-0300. Select the link “Comment Now” that corresponds with “Information Collection 3090-0300, Implementation of Information Technology Security Provision”. Follow the instructions provided on the screen. Please include your name, company name (if any), and “Information Collection 3090-0300, Implementation of Information Technology Security Provision” on your attached document.

• Fax: 202-501-4067.

• Mail: General Services Administration, Regulatory Secretariat Division (MVCB), 1800 F Street NW., Washington, DC 20405. ATTN: IC 3090-0300.

Instructions: Please submit comments only and cite Information Collection 3090-0300, Implementation of Information Technology Security Provision, in all correspondence related to this collection. All comments received will be posted without change to http://www.regulations.gov, including any personal and/or business confidential information provided.

FOR FURTHER INFORMATION CONTACT: Ms. Dana Munson, Procurement Analyst, Office of Acquisition Policy, at (202) 357-9652 or via email at dana.munson@gsa.gov.

SUPPLEMENTARY INFORMATION:

A. Purpose

Clause 552.237-71 requires contractors, within 30 days after contract award, to submit an IT Security Plan to the Contracting Officer and Contacting Officer's Representative that describes the processes and procedures that will be followed to ensure appropriate security of IT resources that are developed, processed, or used under the contract. The clause will also require that contractors submit written proof of IT security authorization six months after contract award, and verify that the IT Security Plan remains valid annually.

B. Annual Reporting Burden

Respondents: 103.

Responses per Respondent: 2.

Hours per Response: 5.

Total Burden Hours: 1,030.

C. Public Comments

Public comments are particularly invited on: Whether this collection of information is necessary for the proper performance of functions of the GSAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 3090-0300, Implementation of Information Technology Security Provision, in all correspondence.

Dated: September 4, 2014.
Jeffrey Koses,
Senior Procurement Executive, Office of Acquisition Policy, Office of Government-wide Policy.

[FR Doc. 2014-21706 Filed 9-11-14; 8:45 am]

BILLING CODE 6820-61-P